DEPARTMENT OF LABOR

Office of the Secretary

Submission for OMB Review: Comment Request

June 2, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision and Extension of a currently approved collection.

Title of Collection: Domestic Agricultural In-Season Wage Report.

OMB Control Number: 1205-0017.

Agency Form Number: ETA-232 and ETA-232A.

Affected Public: State, Local, or Tribal Governments and Farms.

Total Estimated Number of Respondents: 38,855.

Total Estimated Annual Burden Hours: 16,301.

Total Estimated Annual Costs Burden (does not include hour costs): $0.

Description: The Department of Labor's Employment and Training Administration needs prevailing wage rates in order to determine the appropriate rate agricultural employers should pay foreign and domestic farmworkers. The State Workforce Agencies are charged with collecting the data from agricultural employers. The wage rates cover agricultural (crop and livestock) and logging jobs. Domestic migrant and local seasonal as well as foreign H-2A farmworkers are hired for these jobs. For additional information, see related notice published in the Federal Register on March 8, 2010 (75 FR 10504).

Agency: Employment and Training Administration.

Type of Review: Extension without change of a currently approved collection.

Title of Collection: Workforce Investment Act: National Emergency Grant (NEG) Assistance—Application and Reporting Procedures.

OMB Control Number: 1205-0439.

Agency Form Numbers: ETA-9103-1; ETA-9103-2a; ETA-9103-2b; ETA-9103-3; ETA-9103-4; ETA-9104; ETA-9105; ETA-9106; and ETA-9107.

Affected Public: State, Local, or Tribal Governments.

Total Estimated Number of Respondents: 150.

Total Estimated Annual Burden Hours: 1,031.

Total Estimated Annual Costs Burden (does not include hour costs): $0.

Description: This information collection contains policies and application and reporting procedures for states and local entities to enable them to access funds for National Emergency Grant (NEG) programs. NEGs are discretionary grants intended to complement the resources and service capacity at the state and local area levels by providing supplemental funding for workforce development and employment services and other adjustment assistance for dislocated workers and other eligible individuals as defined in sections 101, 134 and 173 of WIA and in the Trade Act as amended by the Trade and Globalization Assistance Act of 2009. For additional information, see related notice published in the Federal Register on February 2, 2010 (75 FR 5346).

Darrin A. King,
Departmental Clearance Officer.

[FR Doc. 2010-13570 Filed 6-7-10; 8:45 am]

BILLING CODE 4510-FN-P